DEPARTMENT OF HEALTH AND HUMAN SERVICES

Administration on Aging

[Program Announcement No. AoA-00-01]

Fiscal Year 2000 Program Announcement; Availability of Funds and Notice Regarding Applications

AGENCY: Administration on Aging, HHS.

ACTION: Correction.

SUMMARY: The above Program Announcement was published in the Federal Register, dated Wednesday, February 2, 2000, page 4976. The deadline date for submission of applications is stated as March 31, 1999 which is a mistake. The corrected deadline for submission of applications is March 31, 2000.

Dated: February 8, 2000.
Jeanette C. Takamura,
Assistant Secretary for Aging.

[FR Doc. 00-3305 Filed 2-11-00; 8:45 am]

BILLING CODE 4154-01-M